DEPARTMENT OF AGRICULTURE

Submission for OMB Review; Comment Request

December 2, 2020.

The Department of Agriculture has submitted the following information collection requirement(s) to OMB for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by January 6, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Business-Cooperative Service

Title: Advanced Biofuel Payment Program.

OMB Control Number: 0570-0063.

Summary of Collection: Section 9005 of Title IX of the Food, Conservation, and Energy Act of 2008 (2008 Farm Bill) authorizes Rural Business-Cooperative Service (RBS) to enter into contracts to make payments to eligible entities to support and ensure an expanding production of advanced biofuels. To receive payments under the Program, eligible entities are producers of advanced biofuels that meet all of the requirements of the Program. Eligible entities can be an individual or legal entity, including a corporation, company, foundation, association, labor organization, firm, partnership, society, joint stock company, group of organizations, or non-profit that produces an advanced biofuel and that sells the advanced biofuel on the commercial market.

Need and Use of the Information: Advanced biofuel producers seeking to participate in the Program must enroll in the Program by submitting an application (Form RD 4288-1), which includes specific information about the producer and the producer's advanced biofuel biorefineries. This information will be used to determine whether the advanced biofuel producer is eligible to participate in the Program and whether the advanced biofuel being produced is eligible for payments under the Program. Form RD 4288-1 will also be used by the Agency to sign-up advance biofuel producers in subsequent fiscal years (FY) and to obtain information to help determine payment rates.

Once an advanced biofuel producer has been approved for participation in the Program, the producer and the Agency will enter into a contract (Form RD 4288-2). Once the contract is signed, the advanced biofuel producer will submit payment requests (Form RD-4288-3), preferably on a quarterly basis. The information in the payment request forms will be used by the Agency to determine payments to the advanced biofuel producers.

Description of Respondents: Business or other for-profit; Individuals.

Number of Respondents: 206.

Frequency of Responses: Reporting: Quarterly, Annually.

Total Burden Hours: 1,339.

Levi S. Harrell,
Departmental Information Collection Clearance Officer.

[FR Doc. 2020-26803 Filed 12-4-20; 8:45 am]

BILLING CODE 3410-XY-P